DEPARTMENT OF HEALTH AND HUMAN SERVICES

Food and Drug Administration

[Docket No. FDA-1998-N-0050] (Formerly Docket No. 1998N-0046)

Compliance Policy Guide Sec. 540.375 Canned Salmon — Adulteration Involving Decomposition (CPG 7108.10); Withdrawal of Guidance

AGENCY: Food and Drug Administration, HHS.

ACTION: Notice; withdrawal.

SUMMARY: The Food and Drug Administration (FDA) is announcing the withdrawal of Compliance Policy Guide Sec. 540.375 Canned Salmon — Adulteration Involving Decomposition (CPG 7108.10) (CPG Sec. 540.375). CPG Sec. 540.375 is included in FDA's Compliance Policy Guides Manual, which was listed in the Annual Comprehensive List of Guidance Documents that published on March 28, 2006.

DATES: The withdrawal is effective March 22, 2010.

FOR FURTHER INFORMATION CONTACT: Robert D. Samuels, Center for Food Safety and Applied Nutrition (HFS-325), Food and Drug Administration, 5100 Paint Branch Pkwy., College Park, MD 20740, 301-436-2300.

SUPPLEMENTARY INFORMATION: In a notice containing a cumulative list of guidances available from the agency that published in the Federal Register on March 28, 2006 (71 FR 15422 at 15453), FDA included the Compliance Policy Guides Manual, which includes CPG Sec. 540.375. FDA is withdrawing CPG Sec. 540.375 because it is obsolete. Current guidance to FDA staff relating to decomposition in fish and fishery products, including canned salmon, is provided in CPG Sec. 540.370 - Fish and Fishery Products — Decomposition, which is available on the Internet at http://www.fda.gov/ICECI/ComplianceManuals/CompliancePolicyGuidanceManual/ucm123201.htm.

Dated: March 9, 2010.
Michael A. Chappell,
Acting Associate Commissioner for Regulatory Affairs.

[FR Doc. 2010-6209 Filed 3-19-10; 8:45 am]

BILLING CODE 4160-01-S